DEPARTMENT OF THE INTERIOR

Fish and Wildlife Service

50 CFR Part 17

Endangered and Threatened Wildlife and Plants: Eastern New York Chapter of the Nature Conservancy, Enhancement of Survival Permit

AGENCY: Fish and Wildlife Service, Interior.

ACTION: Notice of Availability and Receipt of Application; Request for Comments.

SUMMARY: The Eastern New York Chapter of The Nature Conservancy (TNC) has applied to the U.S. Fish and Wildlife Service (Service) for an Enhancement of Survival Permit (ESP) pursuant to section 10(a)(1)(A) of the Endangered Species Act of 1973 (Act), as amended. The requested permit, which is for a period of 50 years, includes a draft Safe Harbor Agreement (SHA) for the Karner blue butterfly in portions of Albany, Saratoga, Schenectady, and Warren Counties, New York.

A draft Environmental Assessment (EA), pursuant to the National Environmental Policy Act of 1969 (NEPA), is also available for public review. We are requesting comments on this application.

DATES: Written comments on the permit application, SHA, and EA must be received on or before November 9, 2007.

ADDRESSES: Please address comments to Field Office Supervisor, New York Field Office, 3817 Luker Road, Cortland, New York 13045; facsimile 607-753-9699. Please refer to permit TE162713-0 when submitting comments.

FOR FURTHER INFORMATION CONTACT: David Stilwell or Robyn Niver at the New York Field Office (see ADDRESSES above), telephone 607-753-9334; facsimile 607-753-9699, or Robyn_Niver@fws.gov.

SUPPLEMENTARY INFORMATION:

Document Availability

Individuals wishing copies of the permit application or the draft EA, or copies of the full text of the proposed SHA, should contact the office and personnel listed in the ADDRESSES section. Documents also will be available for public inspection, by appointment, during normal business hours at this office (see ADDRESSES).

We specifically request information, views, and opinions from the public on the proposed Federal action of issuing a permit. Further, we solicit information regarding the adequacy of the SHA as measured against our permit issuance criteria found in 50 CFR 17.22(c).

Before including your address, telephone number, electronic mail address, or other personal identifying information in your comment, be advised that your entire comment, including your personal identifying information, may be made publicly available at any time. While you can ask us in your comment to withhold from public review your personal identifying information, we cannot guarantee that we will be able to do so.

Background

TNC has applied to the Service for a section 10(a)(1)(A) ESP for the endangered Karner blue butterfly in portions of 4 eastern New York counties (Albany, Saratoga, Schenectady, and Warren) for a period of 50 years.

TNC plans to implement a programmatic SHA program on non-Federal and non-TNC lands in eastern New York to promote the recovery of the Karner blue butterfly on enrolled private lands located in the counties listed above. The conservation measures will improve and maintain pitch pine scrub oak barrens oak-pine savannahs, and tall grass prairie openings through mowing, tree clearing, and grubbing, removal of debris, prescribed burning, limited use of herbicides, and planting seeds or seedlings by hand or mechanical equipment. TNC may also employ captive-rearing and translocation methods to enhance butterfly colonization of sites. Due to the programmatic nature of the SHA, baseline conditions will be determined at the time of enrollment. Baseline conditions for most properties are anticipated to be zero. Where properties are determination to have an environmental baseline greater than zero, these areas shall be described in the cooperative agreement between TNC and the property owner, with detailed descriptions and maps showing the locations of existing habitat attached to the cooperative agreement.

Under an SHA, a participating property owner voluntarily undertakes management activities on their property to enhance, restore, or maintain habitat benefiting species listed under the Act. Safe Harbor Agreements encourage private and other non-Federal property owners to implement conservation efforts for listed species by assuring property owners they will not be subject to increased property use restrictions if their efforts attract listed species to their property or increase the numbers or distribution of listed species already on their property.

The draft EA considers the environmental consequences of three alternatives, including a no-action alternative, the proposed action, and an alternative involving individual SHAs with the Service.

Decision

We provide this notice pursuant to section 10(c) of the Act and pursuant to implementing regulations for NEPA (40 CFR 1506.6). We will evaluate the permit application, the proposed SHA, and comments submitted thereon to determine whether the application meets the requirements of section 10(a) of the Action and NEPA regulations. If the requirements are met, we will sign the proposed SHA and issue an enhancement of survival permit under section 10(a)(1)(A) of the Act to TNC for take of Karner blue butterfly incidental to otherwise lawful activities of the project. We will not make a final decision until after the end of the 30-day comment period and will fully consider all comments received during the comment period.

Authority: The authority for this action is the Endangered Species Act of 1973, as amended (16 U.S.C. 1531 et seq.) and the National Environmental Policy Act of 1969, as amended (42 U.S.C. 4321 et seq.).

Dated: August 24, 2007.
Thomas J. Healy,
Acting Regional Director, Region 5.

[FR Doc. E7-19882 Filed 10-9-07; 8:45 am]

BILLING CODE 4310-55-P